DEPARTMENT OF HOUSING AND URBAN DEVELOPMENT

[Docket Nos. FR-4873-FA-02 and FR-4900-FA-09]

Housing Counseling Program; Announcement of Funding Awards for Fiscal Year 2004

AGENCY: Office of the Assistant Secretary for Housing-Federal Housing Commissioner, HUD.

ACTION: Announcement of funding awards.

SUMMARY: In accordance with Section 102(a)(4)(C) of the Department of Housing and Urban Development Reform Act of 1989, this announcement notifies the public of funding decisions made by the Department in a Super Notice of Funding Availability (NOFA) competition for funding of HUD-approved counseling agencies to provide counseling services. This announcement contains the names and addresses of the agencies selected for funding and the award amounts. Additionally, this announcement provides notice of an award given for Housing Counseling Training through a competition announced in a May 12, 2004, NOFA.

FOR FURTHER INFORMATION CONTACT: Ruth Román, Director, Program Support Division, Room 9274, Office of Single Family Housing, Department of Housing and Urban Development, 451 Seventh Street, SW., Washington, DC 20410-8000, telephone (202) 708-0317. Hearing- or speech-impaired individuals may access this number by calling the Federal Information Relay Service on 800-877-8339 or (202) 708-9300. (With the exception of the “800” number, these are not toll free numbers.)

SUPPLEMENTARY INFORMATION: The Housing Counseling Program is authorized by Section 106 of the Housing and Urban Development Act of 1968 (12 U.S.C. 1701x). HUD enters into agreement with qualified public or private nonprofit organizations to provide housing counseling services to low- and moderate-income individuals and families nationwide. The services include providing information, advice and assistance to renters, first-time homebuyers, homeowners, and senior citizens in areas such as pre-purchase counseling, financial management, property maintenance and other forms of housing assistance to help individuals and families improve their housing conditions and meet the responsibilities of tenancy and homeownership.

HUD funding of approved housing counseling agencies is not guaranteed and when funds are awarded, a HUD grant does not cover all expenses incurred by an agency to deliver housing counseling services. Counseling agencies must actively seek additional funds from other sources such as city, county, state and federal agencies and from private entities to ensure that they have sufficient operating funds. The availability of Housing Counseling grants depends upon appropriations and the outcome of the award competition.

The 2004 grantees announced in Appendix A of this notice were selected for funding through a competition announced in a NOFA published in the Federal Register on May 14, 2004 (69 FR 27169) for the housing counseling program. Applications were scored and selected for funding on the basis of selection criteria contained in the NOFA. HUD awarded $35.928 million in housing counseling grants to 361 housing counseling organizations nationwide: 328 local agencies, 18 intermediaries, and 15 State housing finance agencies. Included in this figure is: $2.5 million awarded to five intermediaries, five State housing finance agencies (SHFAs) and 37 local housing counseling agencies (LHCAs) for the purpose of combating predatory lending; $1.7 million awarded to five intermediaries, six SHFAs and 28 LHCAs for counseling in conjunction with HUD's Homeownership Voucher Program; and $258,809 awarded to one intermediary and two local organizations for provision of counseling services to families and individuals living in the Colonias, unincorporated communities in the southwest border region of the United States.

In addition to the $35.928 million, HUD awarded a $7.75 million competitive grant to Neighborhood Reinvestment Corporation (NRC) to develop and provide training and a broad array of other activities designed to improve and standardize the quality of counseling provided by housing counselors working for HUD-approved housing counseling agencies. Competition for this award was announced in a NOFA for Housing Counseling Training published in the Federal Register on May 12, 2004 (69 FR 26436).

The Catalog of Federal Domestic Assistance number for the Housing Counseling program is 14.169.

In accordance with Section 102(a)(4)(C) of the Department of Housing and Urban Development Reform Act of 1989 (103 Stat. 1987, 42 U.S.C. 3545), the Department is publishing the names, addresses, and award amounts as provided in Appendix A.

Dated: April 1, 2005.
Frank L. Davis,
General Deputy Assistant Secretary for Housing.

Appendix A—2004 HUD Housing Counseling Grants

INTERMEDIARY ORGANIZATIONS (18)

AARP FOUNDATION 601

E. Street, NW

Washington, DC 20049

Grant Type: Comprehensive

Amount Awarded: $913,915

ACORN HOUSING CORPORATION

846 N Broad St 2nd floor

Philadelphia, PA 19130-2234

Grant Type: Comprehensive

Amount Awarded: $1,812,471

CATHOLIC CHARITIES USA

1731 King St Ste 200

Alexandria, VA 22314-2720

Grant Type: Comprehensive

Amount Awarded: $1,968,601

CITIZENS' HOUSING AND PLANNING ASSOCIATION, INCORPORATED

18 Tremont Street,

Suite 401

Boston, MA 02108-

Grant Type: Comprehensive

Amount Awarded: $808,000

HOMEFREE—USA

318 Riggs Rd NE

Washington, DC 20011-2534

Grant Type: Comprehensive

Amount Awarded: $264,901

HOUSING OPPORTUNITIES, INCORPORATED

133 7th St

P.O. Box 9

Mc Keesport, PA 15134-

Grant Type: Comprehensive

Amount Awarded: $1,015,000

MISSION OF PEACE

Windmill Place, 877 East Fifth Ave.

Flint, MI 48503-

Grant Type: Comprehensive

Amount Awarded: $459,605

MONEY MANAGEMENT INTERNATIONAL INCORPORATED

9009 West Loop South

Suite 700

Houston, TX

77096-1719

Grant Type: Comprehensive

Amount Awarded: $588,000

NATIONAL ASSOCIATION OF REAL ESTATE BROKERS—INVESTMENT DIVISION, INCORPORATED

1301 85th Ave

Oakland, CA 94621-1605

Grant Type: Comprehensive

Amount Awarded: $1,105,800

NATIONAL COUNCIL OF LA RAZA

1111 19th Street NW Ste 1000

Washington, DC 20036-

Grant Type: Comprehensive

Amount Awarded: $913,915

NATIONAL CREDIT UNION FOUNDATION

601 Pennsylvania Avenue, NW

South Building, Suite 600

Washington, DC 20004-2601

Grant Type: Comprehensive

Amount Awarded: $654,309

NATIONAL FOUNDATION FOR CREDIT COUNSELING, INCORPORATED

801 Roeder Road

Suite 900

Silver Spring, MD 20910-3372

Grant Type: Comprehensive

Amount Awarded: $459,605

NATIONAL URBAN LEAGUE

120 Wall Street

New York, NY 10005-

Grant Type: Comprehensive

Amount Awarded: $1,369,194

NEIGHBORHOOD REINVESTMENT CORPORATION

1325 G St NW

Suite 800

Washington, DC 20005-3104

Grant Type: Comprehensive

Amount Awarded: $1,304,239

RURAL COMMUNITY ASSISTANCE CORPORATION

3120 Freeboard Drive

Suite 201

West Sacramento, CA 95691-

Grant Type: Comprehensive

Amount Awarded: $654,309

STRUCTURED EMPLOYMENT ECONOMIC DEVELOPMENT CORPORATION

915 Broadway 17th Floor

New York, NY 10010-

Grant Type: Comprehensive

Amount Awarded: $329,803

THE HOUSING PARTNERSHIP NETWORK

160 State Street, 5th Fl

Boston, MA 02109-

Grant Type: Comprehensive

Amount Awarded: $1,369,194

WEST TENNESSEE LEGAL SERVICES, INCORPORATED

210 West Main Street

P.O. Box 2066

Jackson, TN 38302-2066

Grant Type: Comprehensive

Amount Awarded: $784,112

STATE HOUSING FINANCE AGENCIES (15)

Atlanta (SHFA—COMP)

GEORGIA HOUSING AND FINANCE AUTHORITY

60 Executive Park South, NE

Atlanta, GA 30329-2231

Grant Type: Comprehensive

Amount Awarded: $184,000

INDIANA HOUSING FINANCE AUTHORITY

30 South Meridian Street, Ste 1000

Indianapolis, IN 46204

Grant Type: Comprehensive

Amount Awarded: $101,501

KENTUCKY HOUSING CORPORATION

1231 Louisville Road

Frankfort, KY 40601-

Grant Type: Comprehensive

Amount Awarded: $199,256

MISSISSIPPI HOME CORPORATION

735 Riverside Drive

P.O. Box 23369

Jackson, MS 39225-3369

Grant Type: Comprehensive

Amount Awarded: $62,875

Denver (SHFA—COMP)

MONTANA BOARD OF HOUSING

Box 200528

Helena, MT 59620

Grant Type: Comprehensive

Amount Awarded: $181,502

NORTH DAKOTA HOUSING FINANCE AGENCY

1500 East Capitol Avenue

P.O. Box 1535

Bismarck, ND 58502-1535

Grant Type: Comprehensive

Amount Awarded: $88,502

SOUTH DAKOTA HOUSING DEVELOPMENT AUTHORITY

221 South Central

P. O. Box 1237

Pierre, SD 57501-1237

Grant Type: Comprehensive

Amount Awarded: $245,869

Philadelphia (SHFA—COMP)

MAINE STATE HOUSING AUTHORITY

353 Water Street

Augusta, ME 04330-

Grant Type: Comprehensive

Amount Awarded: $100,000

MICHIGAN STATE HOUSING DEVELOPMENT AUTHORITY

735 E. Michigan Avenue

P.O. Box 30044

Lansing, MI 48909-

Grant Type: Comprehensive

Amount Awarded: $91,109

NEW JERSEY HOUSING AND MORTGAGE FINANCE AGENCY

637 South Clinton Avenue

Trenton, NJ 08650-

Grant Type: Comprehensive

Amount Awarded: $18,000

PENNSYLVANIA HOUSING FINANCE AGENCY

211 North Front Street

Harrisburg, PA 17101-1406

Grant Type: Comprehensive

Amount Awarded: $112,000

RHODE ISLAND HOUSING AND MORTGAGE FINANCE CORPORATION

44 Washington St

Providence, RI 02903-1721

Grant Type: Comprehensive

Amount Awarded: $182,000

VIRGINIA HOUSING DEVELOPMENT AUTHORITY

601 S. Belvedere Street

Richmond, VA 23220-

Grant Type: Comprehensive

Amount Awarded: $64,536

Santa Ana (SHFA—COMP)

IDAHO HOUSING AND FINANCE ASSOCIATION

565 West Myrtle

P.O. Box 7899

Boise, ID 83702-

Grant Type: Comprehensive

Amount Awarded: $171,450

WASHINGTON STATE HOUSING FINANCE COMMISSION

1000 2nd Avenue

Suite 2700

Seattle, WA 98104-1046

Grant Type: Comprehensive

Amount Awarded: $300,000

LOCAL ORGANIZATIONS (328)

Atlanta (LHCA—COMP)

ACCESS LIVING OF METROPOLITAN CHICAGO

614 Roosevelt Road

Chicago, IL 60607-

Grant Type: Comprehensive

Amount Awarded: $24,107

AFFORDABLE HOUSING COALITION OF ASHVILLE AND BUNCOMBE COUNTY, INCORPORATED

34 Wall Street

Suite 607

Asheville, NC 28801-

Grant Type: Comprehensive

Amount Awarded: $28,853

AFFORDABLE HOUSING CORPORATION

601 S. Adams Street

Marion, IN 46953

Grant Type: Comprehensive

Amount Awarded: $36,618

AFFORDABLE HOUSING ENTERPRISES, INCORPORATED

333 South 9th Street

Griffin, GA 30224-

Grant Type: Comprehensive

Amount Awarded: $21,830

ALABAMA COUNCIL ON HUMAN RELATIONS, INCORPORATED

319 W Glenn Ave

P.O. Box 409

Auburn, AL 36831-0409

Grant Type: Comprehensive

Amount Awarded: $17,277

ANDERSON HOUSING AUTHORITY

528 West 11th St

Anderson, IN 46016-1228

Grant Type: Comprehensive

Amount Awarded: $28,853

AREA COMMITTEE TO IMPROVE OPPORTUNITIES NOW, INCORPORATED

594 Oconee Street

Athens, GA 30603

Grant Type: Comprehensive

Amount Awarded: $15,000

CAMPBELLSVILLE HOUSING AND REDEVELOPMENT AUTHORITY

400 Ingram Ave

P.O. Box 597

Campbellsville, KY 42718-1627

Grant Type: Comprehensive

Amount Awarded: $15,000

CCCS FORSYTH COUNTY

8064 North Point Boulevard, Suite 204

Winston Salem, NC 27106-

Grant Type: Comprehensive

Amount Awarded: $56,641

CCCS OF CENTRAL FL AND THE FL GULF COAST, INC.—MAIN OFFICE

3670 Maguire Boulevard, Suite 103

Orlando, FL 32803

Grant Type: Comprehensive

Amount Awarded: $94,998

CCCS OF NORTH WEST

3637 Grant St

Gary, IN 46408-1423

Grant Type: Comprehensive

Amount Awarded: $86,000

CCCS OF WEST FL DBA ALLVISTA SOLUTIONS

14 Palafox Place

P.O. Box 950

Pensacola, FL 32502

Grant Type: Comprehensive

Amount Awarded: $25,000

CCCS OF WESTERN NORTH CAROLINA

50 S French Broad Ave Ste 227

Asheville, NC 28801-3217

Grant Type: Comprehensive

Amount Awarded: $53,865

CEIBA HOUSING AND ECONOMIC DEVELOPMENT CORPORATION

Ave Lauro Pinero 252

P.O. Box 203

Ceiba, PR 00735-0203

Grant Type: Comprehensive

Amount Awarded: $24,107

CENTER FOR PAN ASIAN COMMUNITY SERVICES, INCORPORATED

3760 Park Avenue

Doraville, GA 30340-

Grant Type: Comprehensive

Amount Awarded: $15,000

CENTRAL FLORIDA COMMUNITY DEVELOPMENT CORPORATION

847 Orange Avenue

P.O. Box 15065

Daytona Beach, FL 32114-

Grant Type: Comprehensive

Amount Awarded: $26,544

CHOANOKE AREA DEVELOPMENT ASSOCIATION OF NORTH CAROLINA

120 Sessoms Drive

Rich Square, NC 27869

Grant Type: Comprehensive

Amount Awarded: $15,000

CITIZENS FOR AFFORDABLE HOUSING

1719 West End Ave Ste 322W

Nashville, TN 37203-5120

Grant Type: Comprehensive

Amount Awarded: $15,000

CITY OF ALBANY PLANNING & COMMUNITY DEVELOPMENT

230 South Jackson St Ste 315

Albany, GA 31701-

Grant Type: Comprehensive

Amount Awarded: $45,537

CITY OF BLOOMINGTON, HSG AND NEIGHBORHOOD DEVELOPMENT

401 N Morton St

P.O. Box 100 zip # 47402

Bloomington, IN 47404-3729

Grant Type: Comprehensive

Amount Awarded: $31,162

COBB HOUSING, INCORPORATED

268 Lawrence ST, Suite 100

Marietta, GA 30060

Grant Type: Comprehensive

Amount Awarded: $38,089

COMMUNITY ACTION AGENCY OF NORTHWEST ALABAMA, INCORPORATED

745 Thompson St

Florence, AL 35630-

Grant Type: Comprehensive

Amount Awarded: $20,000

COMMUNITY ACTION PARTNERSHIP OF NORTH ALABAMA, INCORPORATED

1909 Central Parkway SW

Decatur, AL 35601-

Grant Type: Comprehensive

Amount Awarded: $33,471

COMMUNITY ACTION PARTNERSHIP, HUNTSVILLE/MADISON & LIMESTONE COUNTIES, INCORPORATED

3516 Stringfield Rd

P.O. Box 3975

Huntsville, AL 35810-1758

Grant Type: Comprehensive

Amount Awarded: $28,853

COMMUNITY AND ECONOMIC DEVELOPMENT ASSOCIATION

208 S La Salle St Ste 1900

Chicago, IL 60604-1104

Grant Type: Comprehensive

Amount Awarded: $31,162

COMMUNITY DEVELOPMENT BLOCK GRANT OPERATIONS

301 River Park Dr. 3rd Floor

East St Louis, IL 62201-3022

Grant Type: Comprehensive

Amount Awarded: $31,162

COMMUNITY ENTERPRISE INVESTMENTS, INCORPORATED

302 North Barcelona St

Pensacola, FL 32502

Grant Type: Comprehensive

Amount Awarded: $23,000

COMMUNITY HOUSING INITIATIVE

3033 College Wood Drive

P.O. Box 410522, FL 32941-0522

Melbourne, FL 32934

Grant Type: Comprehensive

Amount Awarded: $20,042

COMMUNITY INVESTMENT CORPORATION OF DECATUR

2121 S. Imboden Court

Decatur, IL 62521-

Grant Type: Comprehensive

Amount Awarded: $17,277

CONSUMER CREDIT COUNSELING SERVICE OF BREVARD

220 Coral Sands Dr

Rockledge, FL 32955-2702

Grant Type: Comprehensive

Amount Awarded: $46,347

COOPERATIVE RESOURCE CENTER

191 Edgewood Avenue, S.E.

Atlanta, GA 30303-

Grant Type: Comprehensive

Amount Awarded: $21,830

CUMBERLAND COMMUNITY ACTION PROGRAM, INCORPORATED

316 Green Street

P.O. Box 2009

Fayetteville, NC 28302

Grant Type: Comprehensive

Amount Awarded: $24,107

DEERFIELD BEACH HOUSING AUTHORITY

533 S. Dixie Hwy

Deerfield Beach, FL 33441

Grant Type: Comprehensive

Amount Awarded: $15,000

DEKALB/METRO HOUSING COUNSELING CENTER

4151 Memorial Drive, Suite 207B

Decatur, GA 30032

Grant Type: Comprehensive

Amount Awarded: $21,830

DU PAGE HOMEOWNERSHIP CENTER

1333 N Main St

Wheaton, IL 60187-3579

Grant Type: Comprehensive

Amount Awarded: $38,089

DURHAM REGIONAL COMMUNITY DEVELOPMENT CENTER

315 East Chapel Hill Street

Suite 301

Durham, NC 27701-

Grant Type: Comprehensive

Amount Awarded: $15,000

EAST ATHENS DEVELOPMENT CORPORATION

410 McKinley drive

Suite 101

Athens, GA 30601-

Grant Type: Comprehensive

Amount Awarded: $24,107

ECONOMIC OPPORTUNITY FOR SAVANNAH CHATHAM COUNTY AREA, INCORPORATED

618 W Anderson St

P.O. Box 1353

Savannah, GA 31415

Grant Type: Comprehensive

Amount Awarded: $28,853

ELIZABETH CITY STATE UNIVERSITY

1704 Weeksville Rd.

Elizabeth City, NC 27909-

Grant Type: Comprehensive

Amount Awarded: $38,089

FAMILY SERVICE CENTER OF SOUTH CAROLINA, INCORPORATED

1800 Main St

P.O. Box 7876

Columbia, SC 29201-2433

Grant Type: Comprehensive

Amount Awarded: $26,544

FAMILY SERVICES INCORPORATED

4925 Lacross St. Ste. 215

North Charleston, SC 29406-

Grant Type: Comprehensive

Amount Awarded: $64,200

GAINESVILLE-HALL COUNTY NEIGHBORHOOD REVITALIZATION

2380 Murphy Blvd

P.O. Box 642

Gainesville, GA 30503-

Grant Type: Comprehensive

Amount Awarded: $31,162

GEORGIA MUTUAL ASSISTANCE ASSOCIATION CONSORTIUM

4416 East Ponce de Leon Avenue

P. O. Box 250

Clarkston, GA 30021

Grant Type: Comprehensive

Amount Awarded: $19,553

GOODWILL INDUSTRIES MANASOTA, INCORPORATED

8490 Lockwood Ridge Road

Sarasota, FL 34243

Grant Type: Comprehensive

Amount Awarded: $38,089

GREATER OCALA COMMUNITY DEVELOPMENT CORPORATION

1749 W. Silver Springs Boulevard

P. O. Box 5582 (zip code 34478)

Ocala, FL 34475

Grant Type: Comprehensive

Amount Awarded: $24,107

GREENSBORO HOUSING COALITION

122 N. Elm Street, Suite 608

Greensboro, NC 27401-

Grant Type: Comprehensive

Amount Awarded: $17,277

GREENVILLE COUNTY HUMAN RELATIONS COMMISSION

301 University Ridge, Suite 1600

Greenville, SC 29601-3660

Grant Type: Comprehensive

Amount Awarded: $104,409

GWINNETT HOUSING RESOURCE PARTNERSHIP, INCORPORATED

2825 Breckinridge Blvd. Suite 160

Duluth, GA 30096-

Grant Type: Comprehensive

Amount Awarded: $48,313

HAVEN ECONOMIC DEVELOPMENT INCORPORATED

8612 State Road 84

Davie, FL 33324-

Grant Type: Comprehensive

Amount Awarded: $45,000

HIGHLAND FAMILY RESOURCE CENTER, INCORPORATED

1305 N. Weldon Street

P. O. Box 806

Gastonia, NC 28053-

Grant Type: Comprehensive

Amount Awarded: $17,277

HOMES IN PARTNERSHIP, INCORPORATED

235 E 5th St

PO Box 761

Apopka, FL 32703-5315

Grant Type: Comprehensive

Amount Awarded: $50,000

HOOSIER UPLANDS ECONOMIC DEVELOPMENT CORPORATION

521 W Main St

PO Box 9

Mitchell, IN 47446-1410

Grant Type: Comprehensive

Amount Awarded: $19,553

HOPE OF EVANSVILLE, INCORPORATED

608 Cherry St

Evansville, IN 47713-

Grant Type: Comprehensive

Amount Awarded: $31,162

HOUSING AND ECONOMIC LEADERSHIP PARTNERS, INCORPORATED

485 Huntington Road, Suite 200

Athens, GA 30606-

Grant Type: Comprehensive

Amount Awarded: $19,553

HOUSING AND NEIGHBORHOOD DEVELOPMENT (H.A.N.D.S.)

6900 South Orange Blossom Trail

Suite 300

Orlando, FL 32809-

Grant Type: Comprehensive

Amount Awarded: $28,853

HOUSING ASSISTANCE AND DEVELOPMENT SERVICES

1135 Adams Street

P.O. Box 9637

Bowling Green, KY 42101-0430

Grant Type: Comprehensive

Amount Awarded: $15,000

HOUSING AUTHORITY OF CITY OF ROME

800 Avenue B

Rome, GA 30162-

Grant Type: Comprehensive

Amount Awarded: $15,000

HOUSING AUTHORITY OF THE CITY OF FORT WAYNE, INDIANA

2013 S. Anthony Blvd.

Fort Wayne, IN 46803

Grant Type: Comprehensive

Amount Awarded: $33,471

HOUSING AUTHORITY OF THE CITY OF HAMMOND

1402 173rd Street

Hammond, IN 46324-2831

Grant Type: Comprehensive

Amount Awarded: $19,553

HOUSING AUTHORITY OF THE CITY OF HIGH POINT

500E Russell Avenue

PO Box 1779

High Point, NC 27260-

Grant Type: Comprehensive

Amount Awarded: $17,277

HOUSING AUTHORITY OF THE CITY OF MONTGOMERY

1020 Bell St

Montgomery, AL 36104-3056

Grant Type: Comprehensive

Amount Awarded: $15,000

HOUSING AUTHORITY OF THE COUNTY OF LAKE

33928 North Route 45

Grayslake, IL 60030

Grant Type: Comprehensive

Amount Awarded: $24,107

HOUSING AUTHORITY, CITY OF ELKHART

1396 Benham Ave

Elkhart, IN 46516-3341

Grant Type: Comprehensive

Amount Awarded: $15,598

HOUSING CHOICE PARTNERS OF ILLNOIS, INCORPORATED

28 E.Jackson Blvd, #1109

Chicago, IL 60604-

Grant Type: Comprehensive

Amount Awarded: $19,553

HOUSING DEVELOPMENT CORPORATION OF ST. JOSEPH COUNTY

227 W. Jefferson Blvd., 12th Floor

South Bend, IN 46601-1830

Grant Type: Comprehensive

Amount Awarded: $15,000

HOUSING EDUCATION AND ECONOMIC DEVELOPMENT

3405 Medgar Evers Blvd

PO Box 11853

Jackson, MS 39213-6360

Grant Type: Comprehensive

Amount Awarded: $24,107

HOUSING OPPORTUNITIES, INCORPORATED

2801 Evans Avenue

Valparaiso, IN 46383-

Grant Type: Comprehensive

Amount Awarded: $15,000

INDIANAPOLIS URBAN LEAGUE

777 Indiana Ave.

Indianapolis, IN 46202-3135

Grant Type: Comprehensive

Amount Awarded: $20,000

J.C. VISION AND ASSOCIATES

135 G East Martin Luther King Dr.

Hinesville, GA 31310

Grant Type: Comprehensive

Amount Awarded: $19,553

JACKSONVILLE AREA LEGAL AID, INCORPORATED

126 W. Adams Street

Jacksonville, FL 32202-3849

Grant Type: Comprehensive

Amount Awarded: $35,780

JEFFERSON COUNTY COMMITTEE FOR ECONOMIC OPPORTUNITY

300 Eighth Avenue, West

Birmingham, AL 35204-3039

Grant Type: Comprehensive

Amount Awarded: $15,000

JEFFERSON COUNTY HOUSING AUTHORITY

3700 Industrial Parkway

Birmingham, AL 35217-

Grant Type: Comprehensive

Amount Awarded: $15,000

JOHNSTON-LEE-HARNETT COMMUNITY ACTION, INCORPORATED

1102 Massey Street

PO Drawer 711

Smithfield, NC 27577-0711

Grant Type: Comprehensive

Amount Awarded: $15,000

LAKE COUNTY COMMUNITY ECONOMIC DEPARTMENT

293 N Main St

Crown Point, IN 46307-1885

Grant Type: Comprehensive

Amount Awarded: $15,000

LATIN AMERICAN ASSOCIATION

2750 Buford Highway

Atlanta, GA 30324-

Grant Type: Comprehensive

Amount Awarded: $35,000

LATIN UNITED COMMUNITY HOUSING ASSOCIATION

3541 West North Avenue

Chicago, IL 60647-

Grant Type: Comprehensive

Amount Awarded: $35,780

LEGAL ASSISTANCE FOUNDATION OF METROPOLITAN CHICAGO

111 West Jackson Blvd. Suite 300

Chicago, IL 60604-

Grant Type: Comprehensive

Amount Awarded: $24,107

LINCOLN HILLS DEVELOPMENT CORPORATION

302 Main St

P.O. Box 336

Tell City, IN 47586-0336

Grant Type: Comprehensive

Amount Awarded: $15,000

MANATEE COALITION FOR AFFORDABLE HOUSING, INCORPORATED

319 6TH Avenue West

Bradenton, FL 34205-

Grant Type: Comprehensive

Amount Awarded: $26,544

MANATEE OPPORTUNITY COUNCIL, INCORPORATED

369 6th Avenue West

Bradenton, FL 34205-8820

Grant Type: Comprehensive

Amount Awarded: $33,471

MEMPHIS AREA LEGAL SERVICES

109 N Main 2nd Fl

Memphis, TN 38103-

Grant Type: Comprehensive

Amount Awarded: $24,107

MID-FLORIDA HOUSING PARTNERSHIP, INCORPORATED

330 North Street

P.O. Box 1345

Daytona Beach, FL 32114-

Grant Type: Comprehensive

Amount Awarded: $50,000

MIDDLE GEORGIA COMMUNITY ACTION AGENCY, INCORPORATED

121 Prince Street

P.O. Box 2286

Warner Robins, GA 31093-1734

Grant Type: Comprehensive

Amount Awarded: $31,162

MOBILE HOUSING BOARD

151 S. Claiborne Street

Mobile, AL 36602

Grant Type: Comprehensive

Amount Awarded: $35,780

MOMENTIVE CONSUMER CREDIT COUNSELING SERVICE

615 N. Alabama Street

Suite 134

Indianapolis, IN 46204-1477

Grant Type: Comprehensive

Amount Awarded: $56,641

MONROE-UNION COMMUNITY DEVELOPMENT CORPORATION

349 East Franklin Street

P.O. Box 887

Monroe, NC 28112-

Grant Type: Comprehensive

Amount Awarded: $38,089

NEIGHBORHOOD HOUSING SERVICES OF CHICAGO, INCORPORATED

1279 N. Milwaukee Street

Chicago, IL 60622

Grant Type: Comprehensive

Amount Awarded: $45,537

NORTHEASTERN COMMUNITY DEVELOPMENT CORPORATION

154 Highway 158 East

P.O. Box 367

Camden, NC 27921-0367

Grant Type: Comprehensive

Amount Awarded: $30,000

NORTHWESTERN REGIONAL HOUSING AUTHORITY

869 Highway 105 Ext Ste 10

P.O. Box 2510

Boone, NC 28607-2510

Grant Type: Comprehensive

Amount Awarded: $24,107

OCALA HOUSING AUTHORITY

1629 Northwest 4th Street

Ocala, FL 34475

Grant Type: Comprehensive

Amount Awarded: $35,000

OPA-LOCKA COMMUNITY DEVELOPMENT CORPORATION

490 Opa-Locka Boulevard

Suite 20

Opa-Locka, FL 33054

Grant Type: Comprehensive

Amount Awarded: $21,830

ORGANIZED COMMUNITY ACTION PROGRAM

507 North Three Notch Street

P.O. Box 908

Troy, AL 36081-0908

Grant Type: Comprehensive

Amount Awarded: $21,830

PARTNERSHIP FOR FAMILIES, CHILDREN AND ADULTS/CCCS OF CHATTANOOGA

5704 Marlin Road

Chattanooga, TN 37411

Grant Type: Comprehensive

Amount Awarded: $31,162

PROSPERITY UNLIMITED, INCORPORATED

1660 Garnet Street

Kannapolis, NC 28083

Grant Type: Comprehensive

Amount Awarded: $17,277

REACH, INCORPORATED

733 Red Mile RD

Lexington, KY 40504-

Grant Type: Comprehensive

Amount Awarded: $17,277

ROGERS PARK COMMUNITY DEVELOPMENT CORPORATION

1530 West Morse Avenue

Chicago, IL 60626-

Grant Type: Comprehensive

Amount Awarded: $21,830

SACRED HEART SOUTHERN MISSIONS HOUSING CORPORATION

9260 McLemore Drive

P.O. Box 365

Walls, MS 38680-0365

Grant Type: Comprehensive

Amount Awarded: $17,277

SANDHILLS COMMUNITY ACTION PROGRAM, INCORPORATED

103 Saunders St

P.O. Box 937

Carthage, NC 28327-0937

Grant Type: Comprehensive

Amount Awarded: $45,537

SOUTH SUBURBAN HOUSING CENTER

18220 Harwood Avenue, Suite 1

Homewood, IL 60430-

Grant Type: Comprehensive

Amount Awarded: $24,107

SPANISH COALITION FOR HOUSING

4035 W North Ave

Chicago, IL 60639-

Grant Type: Comprehensive

Amount Awarded: $17,277

SPRINGFIELD HOUSING AUTHORITY

200 North Eleventh Street

Springfield, IL 62703-

Grant Type: Comprehensive

Amount Awarded: $17,277

TALLAHASSEE LENDERS CONSORTIUM, INCORPORATED

1114 East Tennessee St

Tallahassee, FL 32308-

Grant Type: Comprehensive

Amount Awarded: $19,553

TALLAHASSEE URBAN LEAGUE

923 Old Bainbridge Road

Tallahassee, FL 32303-6042

Grant Type: Comprehensive

Amount Awarded: $48,313

TENANT SERVICES AND HOUSING COUNSELING, INCORPORATED

258 Clark Street

Lexington, KY 40507-

Grant Type: Comprehensive

Amount Awarded: $15,000

THE CENTER FOR AFFORDABLE HOUSING

2524 S. Park Drive

Sanford, FL 32773

Grant Type: Comprehensive

Amount Awarded: $35,780

TWIN RIVERS OPPORTUNITIES, INCORPORATED

318 Craven St.

P.O. Box 1482

New Bern, NC 28563-

Grant Type: Comprehensive

Amount Awarded: $24,107

UNIVERSITY OF SOUTHERN MISSISSIPPI'S INSTITUTE FOR DISABILITY STUDIES

118 College Drive, #5163

Hattiesburg, MS 39406-0001

Grant Type: Comprehensive

Amount Awarded: $17,277

URBAN LEAGUE OF GREATER COLUMBUS

802 1st Ave.

Columbus, GA 31901-2702

Grant Type: Comprehensive

Amount Awarded: $19,553

URBAN LEAGUE OF LOUISVILLE, INCORPORATED

1535 West Broadway

Louisville, KY 40203

Grant Type: Comprehensive

Amount Awarded: $26,544

VOLLINTINE EVERGREEN COMMUNITY ASSOCIATION

1680 Jackson Ave

Memphis, TN 38107-5044

Grant Type: Comprehensive

Amount Awarded: $28,853

WATEREE COMMUNITY ACTIONS, INCORPORATED

13 S Main St.

P.O. Box 1838

Sumter, SC 29150-5244

Grant Type: Comprehensive

Amount Awarded: $17,277

WEST PERRINE COMMUNITY DEVELOPMENT CORPORATION

17755 Homestead Ave.

Suite 102

Miami, FL 33157-5340

Grant Type: Comprehensive

Amount Awarded: $40,000

WESTERN PIEDMONT COUNCIL OF GOVERNMENTS

736 4th Street South-West

P.O. Box 9026

Hickory, NC 28602-

Grant Type: Comprehensive

Amount Awarded: $19,553

WILL COUNTY CENTER FOR COMMUNITY CONCERNS

304 N. Scott Street

Joliet, IL 60432-

Grant Type: Comprehensive

Amount Awarded: $15,000

WILMINGTON HOUSING FINACE AND DEVELOPMENT, INCORPORATED

310 North Front Street

P.O. Box 547

Wilimington, NC 28402-

Grant Type: Comprehensive

Amount Awarded: $19,553

WOODBINE COMMUNITY ORGANIZATION

222 Oriel Ave.

Nashville, TN 37210-

Grant Type: Comprehensive

Amount Awarded: $65,300

Denver (LHCA—COMP)

ADAMS COUNTY HOUSING AUTHORITY

7190 Colorado Blvd 6th Fl

Commerce City, CO 80022-1812

Grant Type: Comprehensive

Amount Awarded: $150,000

ANOKA COUNTY COMMUNITY ACTION PROGRAM, INCORPORATED

1201 89th Ave NE Ste 345

Blaine, MN 55434-3373

Grant Type: Comprehensive

Amount Awarded: $56,062

AVENIDA GUADALUPE ASSOCIATION

1327 Guadalupe St

San Antonio, TX 78207-

Grant Type: Comprehensive

Amount Awarded: $15,000

AVENUE COMMUNITY DEVELOPMENT CORPORATION

2505 Washington Ave, Suite 400

Houston, TX 77007-

Grant Type: Comprehensive

Amount Awarded: $15,000

BOULDER COUNTY HOUSING AUTHORITY

P.O. Box 471

Boulder, CO 80306-0471

Grant Type: Comprehensive

Amount Awarded: $68,000

BROTHERS REDEVELOPMENT, INCORPORATED

2250 Eaton St

Garden Level

Denver, CO 80214-1210

Grant Type: Comprehensive

Amount Awarded: $50,000

CARVER COUNTY HOUSING AND REDEVELOPMENT AUTHORITY

705 Walnut Street

Chaska, MN 55318-

Grant Type: Comprehensive

Amount Awarded: $103,425

CDC OF BROWNSVILLE

901 East Levee Street

Brownsville, TX 78520-5804

Grant Type: Comprehensive

Amount Awarded: $92,704

CEDAR CITY HOUSING AUTHORITY

364 South 100 East

Cedar City, UT 84720-

Grant Type: Comprehensive

Amount Awarded: $12,524

CITY OF AURORA COMMUNITY DEVELOPMENT DIVISION

9898 E. Colfax Ave.

Aurora, CO 80010-

Grant Type: Comprehensive

Amount Awarded: $50,000

CITY OF FORT WORTH HOUSING DEPARTMENT

1000 Throckmorton St.

Fort Worth, TX 76102-

Grant Type: Comprehensive

Amount Awarded: $92,704

CITY OF SAN ANTONIO/COMMUNITY ACTION DIVISION

700 So. Zarzamora, Suite 207

P.O. Box 839966

San Antonio, TX 78205-

Grant Type: Comprehensive

Amount Awarded: $135,572

COMMUNITY ACTION AGENCY OF OKLAHOMA CITY AND OKLAHOMA/CANADIAN COUNTIES, INC.

1900 NW 10th St.

Oklahoma City, OK 73106-2428

Grant Type: Comprehensive

Amount Awarded: $24,679

COMMUNITY ACTION FOR SUBURBAN HENNEPIN, INCORPORATED

33 10th Ave. South

Suite 150

Hopkins, MN 55343-1303

Grant Type: Comprehensive

Amount Awarded: $150,000

COMMUNITY ACTION PROJECT OF TULSA COUNTY, INCORPORATED

717 S. Houston, Suite 200

Tulsa, OK 74127

Grant Type: Comprehensive

Amount Awarded: $100,000

COMMUNITY ACTION SERVICES

815 South Freedom Blv., Suite 100

Provo, UT 84601-

Grant Type: Comprehensive

Amount Awarded: $50,000

COMMUNITY ACTION, INCORPORATED OF ROCK AND WALWORTH COUNTIES

2300 Kellogg Ave

Janesville, WI 53546-5921

Grant Type: Comprehensive

Amount Awarded: $20,000

COMMUNITY DEVELOPMENT SUPPORT ASSOCIATION

2615 E Randolph

Enid, OK 73701-

Grant Type: Comprehensive

Amount Awarded: $30,000

COMMUNITY SERVICES LEAGUE

300 W Maple Ave

Independence, MO 64050-2818

Grant Type: Comprehensive

Amount Awarded: $78,060

CONSUMER CREDIT COUNSELING SERVICE OF CENTRAL OKLAHOMA, INCORPORATED

MidFirst Bank

228 Chickasha Avenue

Chickasha, OK 73018

Grant Type: Comprehensive

Amount Awarded: $67,000

CROWLEY'S RIDGE DEVELOPMENT COUNCIL, INCORPORATED

P.O. Box 1497

Jonesboro, AR 72403-1497

Grant Type: Comprehensive

Amount Awarded: $37,248

FAMILY HOUSING ADVISORY SERVICES, INCORPORATED

2416 Lake Street

Omaha, NE 68111-

Grant Type: Comprehensive

Amount Awarded: $150,000

FAMILY MANAGEMENT CREDIT COUNSELORS, INCORPORATED

1409 W 4th St

Waterloo, IA 50702-2907

Grant Type: Comprehensive

Amount Awarded: $35,000

FINANCIAL SOLUTIONS OF WYOMING

441 S. Center St., Suite 100

Casper, WY 82601-

Grant Type: Comprehensive

Amount Awarded: $15,000

GREATER KANSAS CITY HOUSING INFORMATION CENTER

6285 Paseo Blvd

Kansas City, MO 64110

Grant Type: Comprehensive

Amount Awarded: $63,598

GULF COAST COMMUNITY SERVICES ASSOCIATION

5000 Gulf Freeway, Bldg #1

Houston, TX 77023

Grant Type: Comprehensive

Amount Awarded: $53,852

HOME OPPORTUNITIES MADE EASY, INCORPORATED (HOME, INC.)

1111 Ninth Street, Suite 210

Des Moines, IA 50314

Grant Type: Comprehensive

Amount Awarded: $31,568

HOME-NEW MEXICO, INCORPORATED

3900 Osuna NE

Albuquerque, NM 87109-

Grant Type: Comprehensive

Amount Awarded: $16,050

HOUSING AND CREDIT COUNSELING, INCORPORATED

1195 SW Buchanan St, Ste 101

Topeka, KS 66604-1183

Grant Type: Comprehensive

Amount Awarded: $150,000

HOUSING AUTHORITY OF THE CITY OF NORMAN

700 North Berry Road

Norman, OK 73069-

Grant Type: Comprehensive

Amount Awarded: $55,000

HOUSING OPTIONS PROVIDED FOR THE ELDERLY

4265 Shaw Blvd

St. Louis, MO 63110-3526

Grant Type: Comprehensive

Amount Awarded: $29,000

HOUSING PARTNERS OF TULSA, INCORPORATED

415 E. Independence

P.O. Box 6369

Tulsa, OK 74106-

Grant Type: Comprehensive

Amount Awarded: $58,488

HOUSING SOLUTIONS FOR THE SOUTHWEST

295 Girard St

Durango, CO 81303-

Grant Type: Comprehensive

Amount Awarded: $40,303

IDABEL HOUSING AUTHORITY

901 Lyndon Rd.

P. O. Box 838

Idabel, OK 74745-0838

Grant Type: Comprehensive

Amount Awarded: $42,310

INTERFAITH OF NATRONA COUNTY, INCORPORATED

1514 East 12th Street, #303

Casper, WY 82601-

Grant Type: Comprehensive

Amount Awarded: $30,000

IOWA CITIZENS FOR COMMUNITY IMPROVEMENT

2005 Forest Avenue

Des Moines, IA 50311

Grant Type: Comprehensive

Amount Awarded: $35,000

JEFFERSON COMMUNITY ACTION PROGRAM

1221 Elmwood Park Blvd Ste 402

Jefferson, LA 70123-

Grant Type: Comprehensive

Amount Awarded: $26,000

JUSTINE PETERSEN HOUSING AND REINVESTMENT CORPORATION

5031 Northrup Ave.

St. Louis, MO 63110-

Grant Type: Comprehensive

Amount Awarded: $15,000

KI BOIS COMMUNITY ACTION FOUNDATION, INCORPORATED

301 E Main

P.O. Box 727

Stigler, OK 74462-

Grant Type: Comprehensive

Amount Awarded: $45,539

LAFAYETTE CONSOLIDATED GOVERNMENT NEIGHBORHOOD COUNSELING SERVICES

111 Shirley Picard Dr.

Lafayette, LA 70501

Grant Type: Comprehensive

Amount Awarded: $20,000

LEGAL SERVICES OF EASTERN MISSOURI, INCORPORATED

4232 Forest Park Ave

St. Louis, MO 63108-2811

Grant Type: Comprehensive

Amount Awarded: $150,000

LINCOLN ACTION PROGRAM, INCORPORATED

210 O Street

Lincoln, NE 68508-

Grant Type: Comprehensive

Amount Awarded: $80,000

NEIGHBOR TO NEIGHBOR

424 Pine Street

Suite 203

Fort Collins, CO 80524-

Grant Type: Comprehensive

Amount Awarded: $45,000

NORTHERN ARAPAHO TRIBAL HOUSING

P.O. Box 8236

501 Ethete Rd

Ethete, WY 82520-

Grant Type: Comprehensive

Amount Awarded: $34,398

OGLALA SIOUX TRIBE PARTNERSHIP FOR HOUSING, INCORPORATED

Old Ambulance Building

P.O. Box 3001

Pine Ridge, SD 57770-

Grant Type: Comprehensive

Amount Awarded: $53,852

PROJECT BRAVO, INCORPORATED

4838 Montana Ave

El Paso, TX 79903-

Grant Type: Comprehensive

Amount Awarded: $73,641

SAINT MARTIN, IBERIA, LAFAYETTE COMMUNITY ACTION

501 Saint John St

P.O. Box 3343

Lafayette, LA 70501-5709

Grant Type: Comprehensive

Amount Awarded: $15,000

SAINT PAUL URBAN LEAGUE

401 Selby Ave

St. Paul, MN 55102-1724

Grant Type: Comprehensive

Amount Awarded: $31,750

SALT LAKE COMMUNITY ACTION PROGRAM

764 S 200 W

Salt Lake City, UT 84101-2710

Grant Type: Comprehensive

Amount Awarded: $25,000

SOUTH ARKANSAS COMMUNITY DEVELOPMENT

406 Clay Street

Arkadelphia, AR 71923-

Grant Type: Comprehensive

Amount Awarded: $35,000

SOUTHEASTERN NORTH DAKOTA COMMUNITY ACTION

3233 S University Dr

Fargo, ND 58104-6221

Grant Type: Comprehensive

Amount Awarded: $14,000

SOUTHERN MINNESOTA REGIONAL LEGAL SERVICES, INCORPORATED

166 E 4th St., Suite 200

St. Paul, MN 55101

Grant Type: Comprehensive

Amount Awarded: $90,000

STILLWATER HOUSING AUTHORITY

807 S Lowry

Stillwater, OK 74074-

Grant Type: Comprehensive

Amount Awarded: $39,000

TENANT RESOURCE CENTER

1202 Williamson St. Suite A

Madison, WI 53703-

Grant Type: Comprehensive

Amount Awarded: $62,310

TEXAS RURAL LEGAL AID, INCORPORATED

300 South Texas Blvd.

Weslaco, TX 78596-

Grant Type: Comprehensive

Amount Awarded: $53,852

THE CHICKASAW NATION DIVISION OF HOUSING

901 N. Country Club

P.O. Box 788

Ada, OK 74820-0788

Grant Type: Comprehensive

Amount Awarded: $15,000

THE HOUSING AUTHORITY OF THE CITY OF SHAWNEE

601 West 7th Street

P.O. Box 3427

Shawnee, OK 74802-3427

Grant Type: Comprehensive

Amount Awarded: $15,000

UNIVERSAL HOUSING DEVELOPMENT CORPORATION

301 E 3rd St

P.O. Box 846

Russellville, AR 72811-5109

Grant Type: Comprehensive

Amount Awarded: $54,816

UTAH STATE UNIVERSITY—FAMILY LIFE CENTER

493 N 700 E

Logan, UT 84321-4231

Grant Type: Comprehensive

Amount Awarded: $53,852

UU HOUSING ASSISTANCE CORPORATION

221 West Poplar

San Antonio, TX 78212-

Grant Type: Comprehensive

Amount Awarded: $15,000

WEST CENTRAL MISSOURI RURAL COMMUNITY ACTION

106 W 4th St

P.O. Box 125

Appleton City, MO 64724-

Grant Type: Comprehensive

Amount Awarded: $92,704

WOMEN'S OPPORTUNITY RESOURCE DEVELOPMENT, INCORPORATED

127 N Higgins Ave

Room 307

Missoula, MT 59802-4457

Grant Type: Comprehensive

Amount Awarded: $65,000

YOUR COMMUNITY CONNECTION

2261 Adams Ave

Ogden, UT 84401-1510

Grant Type: Comprehensive

Amount Awarded: $17,874

Philadelphia (LHCA—COMP)

AFFORDABLE HOMES OF MILLVILLE ECUMENICAL

518 North High Street

P.O. Box 241

Millville, NJ 08332-

Grant Type: Comprehensive

Amount Awarded: $17,798

ALBANY COUNTY RURAL HOUSING ALLIANCE, INCORPORATED

24 Martin Road

P.O. Box 407

Voorheesville, NY 12186-

Grant Type: Comprehensive

Amount Awarded: $44,988

ARUNDEL COMMUNITY DEVELOPMENT SERVICE INCORPORATED

2660 Riva Road

Suite 210

Annapolis, MD 21401-

Grant Type: Comprehensive

Amount Awarded: $20,596

ASIAN AMERICANS FOR EQUALITY

111 Division St

New York, NY 10002

Grant Type: Comprehensive

Amount Awarded: $17,798

BELMONT SHELTER CORPORATION

1195 Main Street

Buffalo, NY 14209-2196

Grant Type: Comprehensive

Amount Awarded: $40,000

BERKS COMMUNITY ACTION PROGRAM BUDGET COUNSEL

247 N. 5th St.

Reading, PA 19601-

Grant Type: Comprehensive

Amount Awarded: $20,596

BERKSHIRE COUNTY REGIONAL HOUSING AUTHORITY-H

150 North Street, Suite 28

Pittsfield, MA 01201-

Grant Type: Comprehensive

Amount Awarded: $34,000

BETTER HOUSING LEAGUE OF GREATER CINCINNATI

7162 Reading Road, Ste. 608

Cincinnati, OH 45237

Grant Type: Comprehensive

Amount Awarded: $35,000

BETTER NEIGHBORHOODS, INCORPORATED

986 Albany St

Schenectady, NY 12307-

Grant Type: Comprehensive

Amount Awarded: $26,193

BISHOP SHEEN ECUMENICAL HOUSING FOUNDATION

935 East Ave Suite 300

Rochester, NY 14607-2216

Grant Type: Comprehensive

Amount Awarded: $31,660

BURLINGTON COUNTY COMMUNITY ACTION PROGRAM

718 Rt. 130 S.

Burlington, NJ 08016-

Grant Type: Comprehensive

Amount Awarded: $17,798

CENTER CITY NEIGHBORHOOD DEVELOPMENT CORPORATION

1824 Main St

Niagara Falls, NY 14305-2661

Grant Type: Comprehensive

Amount Awarded: $25,000

CENTER FOR FAMILY SERVICES, INCORPORATED

213 W. Center Street

Meadville, PA 16335-3406

Grant Type: Comprehensive

Amount Awarded: $23,395

CENTRAL VERMONT COMMUNITY ACTION COUNCIL, INC.

195 US Route 302—Berlin

Barre, VT 05641-

Grant Type: Comprehensive

Amount Awarded: $41,656

CHAUTAUQUA OPPORTUNITIES, INCORPORATED

17 W Courtney St

Dunkirk, NY 14048-2754

Grant Type: Comprehensive

Amount Awarded: $31,660

CHESTER COMMUNITY IMPROVEMENT PROJECT

412 Avenue of the States

P.O. BOX 541

Chester, PA 19013-0541

Grant Type: Comprehensive

Amount Awarded: $34,992

COASTAL ECONOMIC DEVELOPMENT CORPORATION

34 Wing Farm Parkway

Bath, ME 04530-

Grant Type: Comprehensive

Amount Awarded: $40,000

COASTAL ENTERPRISES, INCORPORATED

41 Water Street

P.O. Box 268

Wiscasset, ME 04578-0268

Grant Type: Comprehensive

Amount Awarded: $20,596

COMMISSION ON ECONOMIC OPPORTUNITY OF LUZERNE

165 Amber Lane

P.O. Box 1127

Wilkes Barre, PA 18703-1127

Grant Type: Comprehensive

Amount Awarded: $20,000

COMMUNITY ACTION COMMISSION OF BELMONT COUNTY

100 W. Main Street, Suite 209

Saint Clairsville, OH 43950-

Grant Type: Comprehensive

Amount Awarded: $15,000

COMMUNITY ACTION COMMITTEE OF LEHIGH VALLEY

1337 E. 5th Street

Bethlehem, PA 18015-

Grant Type: Comprehensive

Amount Awarded: $23,395

COMMUNITY ACTION PROGRAM FOR MADISON COUNTY

3 East Main Street

P.O. Box 249

Morrisville, NY 13408-

Grant Type: Comprehensive

Amount Awarded: $20,596

COMMUNITY ACTION SOUTHWEST

150 W. Beau Street, Suite 304

Washington, PA 15301-

Grant Type: Comprehensive

Amount Awarded: $26,193

COMMUNITY ASSISTANCE NETWORK

7701 Dunmanway

Dundalk, MD 21222-5437

Grant Type: Comprehensive

Amount Awarded: $34,992

COMMUNITY HOUSING, INCORPORATED

613 N Washington St

Wilmington, DE 19801-2135

Grant Type: Comprehensive

Amount Awarded: $25,000

COMMUNITY SERVICE NETWORK, INCORPORATED

52 Broadway

Stoneham, MA 02180-1003

Grant Type: Comprehensive

Amount Awarded: $25,000

COMMUNITY UNIFIED TODAY, INCORPORATED

152 Genesee Street, P.O. Box 268

Geneva, NY 14456-

Grant Type: Comprehensive

Amount Awarded: $15,000

CONCORD AREA TRUST FOR COMMUNITY (CATCH)

79 South State Street

Concord, NH 03301-

Grant Type: Comprehensive

Amount Awarded: $44,988

CONSUMER CREDIT AND BUDGET COUNSELING

299 S. Shore Road, Route 9 South

Marmora, NJ 08223-0866

Grant Type: Comprehensive

Amount Awarded: $17,798

CORTLAND HOUSING ASSISTANCE COUNCIL, INCORPORATED

159 Main St

Cortland, NY 13045-

Grant Type: Comprehensive

Amount Awarded: $15,560

FAIR HOUSING CONTACT SERVICE

333 South Main Street, Ste. 300

Akron, OH 44308

Grant Type: Comprehensive

Amount Awarded: $23,395

FAIR HOUSING RESOURCE CENTER

54 South State Street

Suite 303

Painesville, OH 44077-

Grant Type: Comprehensive

Amount Awarded: $44,988

FAITH FELLOWSHIP COMMUNITY DEVELOPMENT CORPORATION

2707 Main Street

Sayreville, NJ 08872-

Grant Type: Comprehensive

Amount Awarded: $23,395

FAMILY SERVICE AGENCY FAMILY FINANCIAL EDUCATION SERVICES

535 Marmion Avenue

Youngstown, OH 44502-2323

Grant Type: Comprehensive

Amount Awarded: $31,660

FAMILY SERVICE CREDIT COUNSELING

51 11th St

Wheeling, WV 26003-2937

Grant Type: Comprehensive

Amount Awarded: $41,656

FAYETTE COUNTY COMMUNITY ACTION AGENCY

140 North Beeson Avenue

Uniontown, PA 15401-

Grant Type: Comprehensive

Amount Awarded: $25,000

FIRST STATE COMMUNITY ACTION AGENCY, INCORPORATED

308 N Railroad Ave

Georgetown, DE 19947-1252

Grant Type: Comprehensive

Amount Awarded: $50,000

FRIENDS OF THE NORTH COUNTRY

1 Mill Street

P.O. Box 446

Keeseville, NY 12944-

Grant Type: Comprehensive

Amount Awarded: $20,596

GARDEN STATE CONSUMER CREDIT COUNSELING, INC./NOVADEBT

225 Willowbrook Road

Freehold, NJ 07728-

Grant Type: Comprehensive

Amount Awarded: $15,000

GARFIELD JUBILEE ASSOCIATION, INCORPORATED

5138 Penn Ave

Pittsburgh, PA 15224-1616

Grant Type: Comprehensive

Amount Awarded: $40,000

GARRETT COUNTY COMMUNITY ACTION COMMITTEE, INC.

104 E Center St

Oakland, MD 21550-1328

Grant Type: Comprehensive

Amount Awarded: $20,596

GREATER BOSTON LEGAL SERVICES

197 Friend Street

Boston, MA 02114-1802

Grant Type: Comprehensive

Amount Awarded: $40,000

GREATER EAST SIDE COMMUNITY ASSOCIATION

2804 N. Franklin Avenue

Flint, MI 48506-

Grant Type: Comprehensive

Amount Awarded: $17,798

HILL DEVELOPMENT CORPORATION OF NEW HAVEN

649 Howard Avenue

New Haven, CT 06519-1506

Grant Type: Comprehensive

Amount Awarded: $23,395

HOME PARTNERSHIP, INCORPORATED

Rumsey Tower Building Suite 301

626 Towne Center Drive

Joppatowne, MD 21085

Grant Type: Comprehensive

Amount Awarded: $15,000

HOME REPAIR SERVICES OF KENT COUNTY, INCORPORATED

1100 S. Division Avenue

Grand Rapids, MI 49507-

Grant Type: Comprehensive

Amount Awarded: $48,320

HOUSING AUTHORITY OF THE COUNTY OF BUTLER

114 Woody Drive

Butler, PA 16001-

Grant Type: Comprehensive

Amount Awarded: $30,000

HOUSING COALITION OF CENTRAL JERSEY

100 Bayard Street, Third Floor

New Brunswick, NJ 08901-2502

Grant Type: Comprehensive

Amount Awarded: $26,168

HOUSING COUNCIL IN MONROE COUNTY, INCORPORATED

183 Main St. E Suite 1100

Rochester, NY 14604-

Grant Type: Comprehensive

Amount Awarded: $23,395

HOUSING COUNCIL OF YORK

35 South Duke Street

York, PA 17401-1106

Grant Type: Comprehensive

Amount Awarded: $66,000

HOUSING COUNSELING SERVICES, INCORPORATED

2430 Ontario Rd NW

Washington, DC 20009-2705

Grant Type: Comprehensive

Amount Awarded: $91,853

HOUSING INITIATIVES PARTNERSHIP, INCORPORATED

6525 Belcrest Road

Suite 555

Hyattsville, MD 20782

Grant Type: Comprehensive

Amount Awarded: $23,395

HOUSING OPPORTUNITIES MADE EQUAL, INCORPORATED

700 East Franklin Street, Suite 3A

Richmond, VA 23219

Grant Type: Comprehensive

Amount Awarded: $44,988

HOUSING PARTNERSHIP FOR MORRIS COUNTY

2 E. Blackwell Street

Suite 12

Dover, NJ 07801-

Grant Type: Comprehensive

Amount Awarded: $31,659

INNER CITY CHRISTIAN FEDERATION

515 Jefferson, SE

Grand Rapids, MI 49503-

Grant Type: Comprehensive

Amount Awarded: $89,775

ISLES, INCORPORATED

114 N. Montgomery Street

Trenton, NJ 08618-3921

Grant Type: Comprehensive

Amount Awarded: $23,395

JERSEY COUNSELING AND HOUSING DEVELOPMENT, INCORPORATED

1840 S Broadway

Camden, NJ 08104-1334

Grant Type: Comprehensive

Amount Awarded: $31,660

KANAWHA INSTITUTE FOR SOCIAL RESEARCH & ACTION, INCORPORATED

124 Marshall Avenue

Dunbar, WV 25064-

Grant Type: Comprehensive

Amount Awarded: $31,660

KEUKA HOUSING COUNCIL

160 Main Street

Penn Yan, NY 14527-

Grant Type: Comprehensive

Amount Awarded: $20,596

LACONIA AREA COMMUNITY LAND TRUST

P.O. Box 6104

Laconia, NH 03247-

Grant Type: Comprehensive

Amount Awarded: $17,798

LIGHTHOUSE COMMUNITY DEVELOPMENT

46156 Woodward Avenue

Pontiac, MI 48328-

Grant Type: Comprehensive

Amount Awarded: $20,596

LONG ISLAND HOUSING SERVICES, INCORPORATED

3900 Veterans Memorial Highway

Suite 251

Bohemia, NY 11716-1027

Grant Type: Comprehensive

Amount Awarded: $41,656

LUTHERAN HOUSING CORPORATION

13944 Euclid Ave Ste 208

East Cleveland, OH 44112-3832

Grant Type: Comprehensive

Amount Awarded: $48,320

MARGERT COMMUNITY CORPORATION

325 Beach 37th Street

Far Rockaway, NY 11691-4103

Grant Type: Comprehensive

Amount Awarded: $44,988

MARSHALL HEIGHTS COMMUNITY DEVELOPMENT ORGANIZATION

3939 Benning Road, NE

Washington, DC 20019-2662

Grant Type: Comprehensive

Amount Awarded: $15,000

MARYLAND RURAL DEVELOPMENT CORPORATION

101 Cedar Ave

P.O. Box 739

Greensboro, MD 21639-0739

Grant Type: Comprehensive

Amount Awarded: $26,193

MASSACHUSETTS ALLIANCE OF PORTUGUESE SPEAKERS

1046 Cambridge Street

Cambridge, MA 02139-1407

Grant Type: Comprehensive

Amount Awarded: $15,000

METRO-INTERFAITH SERVICES, INCORPORATED

21 New St.

Binghamton, NY 13903-

Grant Type: Comprehensive

Amount Awarded: $20,000

MICHIGAN HOUSING COUNSELORS

237 S.B. Gratiot Ave

Mount Clemens, MI 48043-2410

Grant Type: Comprehensive

Amount Awarded: $27,000

MID-OHIO REGIONAL PLANNING COMMISSION

285 E Main St

Columbus, OH 43215-5272

Grant Type: Comprehensive

Amount Awarded: $25,000

MONMOUTH COUNTY BOARD OF CHOSEN FREEHOLDERS/MONMOUTH COUNTY DIVISION OF SOCIAL SERVICES

P.O. Box 3000

Freehold, NJ 07728-

Grant Type: Comprehensive

Amount Awarded: $30,743

MOUNT AIRY, USA

6703 Germantown Ave—Suite 200

Philadelphia, PA 19119-

Grant Type: Comprehensive

Amount Awarded: $31,660

NATIONAL COUNCIL ON AGRICULTURAL LIFE AND LAB

363 Saulsbury Road

Dover, DE 19904-2722

Grant Type: Comprehensive

Amount Awarded: $15,000

NCCS CENTER FOR NONPROFIT HOUSING

6308 S. Warner

P.O. Box 149

Fremont, MI 49412-

Grant Type: Comprehensive

Amount Awarded: $25,000

NEAR NORTHEAST COMMUNITY IMPROVEMENT CORPORATION

1326 Florida Ave NE

Washington, DC 20002-7108

Grant Type: Comprehensive

Amount Awarded: $34,992

NEIGHBORHOOD HOUSE, INCORPORATED

1218 B St

Wilmington, DE 19801-5844

Grant Type: Comprehensive

Amount Awarded: $23,395

NEIGHBORHOOD HOUSING SERVICES OF NEW BRITAIN, INCORPORATED

223 Broad St

New Britain, CT 06053-4107

Grant Type: Comprehensive

Amount Awarded: $34,992

NEIGHBORS HELPING NEIGHBORS, INCORPORATED

443 39th Street, Suite 202

Brooklyn, NY 11232-

Grant Type: Comprehensive

Amount Awarded: $48,320

NEW JERSEY CITIZEN ACTION

400 Main Street

Hackensack, NJ 07601-5903

Grant Type: Comprehensive

Amount Awarded: $44,988

NEWPORT NEWS OFFICE OF HUMAN AFFAIRS

2410 Wickham Avenue

P.O. Box 37

Newport News, VA 23607-

Grant Type: Comprehensive

Amount Awarded: $11,957

NORTHFIELD COMMUNITY LOCAL DEVELOPMENT CORPORATION

160 Heberton Ave.

Staten Island, NY 10302

Grant Type: Comprehensive

Amount Awarded: $17,798

NORTHWEST COUNSELING SERVICE

5001 N Broad St

Philadelphia, PA 19141-2217

Grant Type: Comprehensive

Amount Awarded: $23,395

NORTHWEST MICHIGAN HUMAN SERVICES AGENCY, INCORPORATED

3963 Three Mile Road

Traverse City, MI 49686-9164

Grant Type: Comprehensive

Amount Awarded: $38,324

OAKLAND COUNTY HOUSING COUNSELING

250 Elizabeth Lake Road

Suite 1900

Pontiac, MI 48341-0414

Grant Type: Comprehensive

Amount Awarded: $38,324

OCEAN COMMUNITY ECONOMIC ACTION NOW, INCORPORATED (O.C.E.A.N.)

22 Hyers Street, P.O. Box 1029

Toms River, NJ 08753-1029

Grant Type: Comprehensive

Amount Awarded: $15,000

OSWEGO HOUSING DEVELOPMENT COUNCIL, INCORPORATED

2822 State Rt. 29

P.O. Box 147

Parish, NY 13131-

Grant Type: Comprehensive

Amount Awarded: $17,798

PATERSON HOUSING AUTHORITY

60 Van Houten Street

P.O. Box H

Paterson, NJ 07519

Grant Type: Comprehensive

Amount Awarded: $17,798

PEOPLES REGIONAL OPPORTUNITY PROGRAM

510 Cumberland Avenue

Portland, ME 04101

Grant Type: Comprehensive

Amount Awarded: $45,000

PHILADELPHIA COUNCIL FOR COMMUNITY ADVANCEMENT

100 North 17th Street—Suite 700

Philadelphia, PA 19103-2736

Grant Type: Comprehensive

Amount Awarded: $30,000

PINE TREE LEGAL SERVICES, INCORPORATED

88 Federal St

P.O. Box 547

Portland, ME 04112-

Grant Type: Comprehensive

Amount Awarded: $34,992

PLYMOUTH REDEVELOPMENT AUTHORITY

11 Lincoln Street

Plymouth, MA 02360-

Grant Type: Comprehensive

Amount Awarded: $36,400

PRO-HOME INCORPORATED

P.O. Box 2793

Taunton, MA 02780-

Grant Type: Comprehensive

Amount Awarded: $34,992

PUTNAM COUNTY HOUSING CORPORATION

11 Seminary Hill Road

Carmel, NY 10512-

Grant Type: Comprehensive

Amount Awarded: $40,000

QUINCY COMMUNITY ACTION PROGRAMS, INCORPORATED

1509 Hancock St

Quincy, MA 02169-5200

Grant Type: Comprehensive

Amount Awarded: $40,000

ROCKLAND HOUSING ACTION COALITION

95 New Clarkstown Road

Nanuet, NY 10954

Grant Type: Comprehensive

Amount Awarded: $40,000

RURAL ULSTER PRESERVATION COMPANY

289 Fair St

Kingston, NY 12401-

Grant Type: Comprehensive

Amount Awarded: $36,425

SCHUYKILL COMMUNITY ACTION

206 North Second Street

Pottsville, PA 17901-2511

Grant Type: Comprehensive

Amount Awarded: $34,000

SOMERSET COUNTY COALITION ON AFFORDABLE HOUSING, INCORPORATED

600 First Avenue

Suite 3

Raritan, NJ 08869-

Grant Type: Comprehensive

Amount Awarded: $55,000

SOUTHERN MARYLAND TRI-COUNTY COMMUNITY ACTION

8383 Leonardtown Rd.

P.O. Box 280

Hughesville, MD 20637-

Grant Type: Comprehensive

Amount Awarded: $35,000

SOUTHWEST MICHIGAN COMMUNITY ACTION AGENCY

185 E. Main Street, Suite 200

Benton Harbor, MI 49022-

Grant Type: Comprehensive

Amount Awarded: $32,955

SPRINGFIELD PARTNERS FOR COMMUNITY ACTION

619 State Street

Springfield, MA 01109-4114

Grant Type: Comprehensive

Amount Awarded: $17,798

ST. JAMES COMMUNITY DEVELOPMENT CORPORATION

402 Broad Street

Newark, NJ 07104-

Grant Type: Comprehensive

Amount Awarded: $26,193

STARK METROPOLITAN HOUSING AUTHORITY

400 E. Tuscarawas Street

Canton, OH 44702-

Grant Type: Comprehensive

Amount Awarded: $20,596

STRYCKER'S BAY NEIGHBORHOOD COUNCIL, INCORPORATED c/o DOME Project 484 Amsterdam Avenue

New York, NY 10024-

Grant Type: Comprehensive

Amount Awarded: $15,000

TABOR COMMUNITY SERVICES

439 E King St

Lancaster, PA 17608-1676

Grant Type: Comprehensive

Amount Awarded: $26,193

THE WAY HOME

214 Spruce Street

Manchester, NH 03103-

Grant Type: Comprehensive

Amount Awarded: $34,992

TREHAB CENTER INCORPORATED

10 Public Avenue

P.O. Box 366

Montrose, PA 18801-0366

Grant Type: Comprehensive

Amount Awarded: $15,000

TRI-COUNTY HOUSING COUNCIL

143 Hibbard Road P.O. Box 451

Big Flats, NY 14814-

Grant Type: Comprehensive

Amount Awarded: $20,596

UNITED NEIGHBORHOOD CENTERS OF LACKAWANNA COUNCIL

425 Alder Street

Scranton, PA 18505-

Grant Type: Comprehensive

Amount Awarded: $38,324

UNIVERSITY LEGAL SERVICES

300 I St NE Ste 202

Washington, DC 20002-4389

Grant Type: Comprehensive

Amount Awarded: $31,660

VIRGINIA COOPERATIVE EXTENSION—PRINCE WILLIAM

8033 Ashton Ave Ste 105

Manassas, VA 20109-8202

Grant Type: Comprehensive

Amount Awarded: $15,000

WASHINGTON COUNTY COMMUNITY ACTION COUNCIL

101 Summit Ave.

Hagerstown, MD 21740-

Grant Type: Comprehensive

Amount Awarded: $15,000

WASHINGTON COUNTY COMMUNITY HOUSING RESOURCE BOARD

21 East Franklin Street

DBA Hagerstown Home Store

Hagerstown, MD 21740-

Grant Type: Comprehensive

Amount Awarded: $15,000

WESTCHESTER RESIDENTIAL OPPORTUNITIES, INCORPORATED

470 Mamaroneck Ave, Suite 410

White Plains, NY 10605-1830

Grant Type: Comprehensive

Amount Awarded: $34,992

WESTERN CATSKILLS COMMUNITY REVITALIZATION COUNCIL, INCORPORATED

125 Main Street, Box A

Stamford, NY 12167-

Grant Type: Comprehensive

Amount Awarded: $18,000

WOMEN'S COMMUNITY REVITALIZATION PROJECT

407-11 Fairmount Avenue

Philadelphia, PA 19123-

Grant Type: Comprehensive

Amount Awarded: $15,000

WSOS COMMUNITY ACTION COMMISSION, INCORPORATED

109 S. Front Street

P.O. Box 590

Fremont, OH 43420-

Grant Type: Comprehensive

Amount Awarded: $31,660

YWCA OF NEW CASTLE COUNTY

233 King St

Wilmington, DE 19801-2521

Grant Type: Comprehensive

Amount Awarded: $30,000

Santa Ana (LHCA—COMP)

ACCESS INCORPORATED

3630 Aviation Way

P.O. Box 4666

Medford, OR 97501-

Grant Type: Comprehensive

Amount Awarded: $50,000

ADMINISTRATION OF RESOURCES AND CHOICES

P.O. Box 86802

Tucson, AZ 85754-

Grant Type: Comprehensive

Amount Awarded: $52,074

BYDESIGN FINANCIAL SOLUTIONS, DBA CCCS OF LOS ANGELES

5628 E. Slauson Ave.

Los Angeles, CA 90040-2922

Grant Type: Comprehensive

Amount Awarded: $150,000

COMMUNITY ACTION PARTNERSHIP

124 New Sixth Street

Lewiston, ID 83501-

Grant Type: Comprehensive

Amount Awarded: $64,000

COMMUNITY HOUSING AND CREDIT COUNSELING CENTER

1001 Willow Street

Chico, CA 95928-

Grant Type: Comprehensive

Amount Awarded: $40,000

COMMUNITY HOUSING RESOURCE CENTER

3801-A Main Street

Vancouver, WA 98663

Grant Type: Comprehensive

Amount Awarded: $52,074

CONSUMER COUNSELING NORTHWEST (CCNW)

11306 Bridgeport Way SW

Lakewood, WA 98499-3005

Grant Type: Comprehensive

Amount Awarded: $86,612

CONSUMER CREDIT COUNSELING SERVICE OF ALASKA

208 E 4th Ave

Anchorage, AK 99501-2508

Grant Type: Comprehensive

Amount Awarded: $127,250

CONSUMER CREDIT COUNSELING SERVICE OF KERN AND TULARE COUNTIES

5300 Lennox Ave Ste 200

Bakersfield, CA 93309-1662

Grant Type: Comprehensive

Amount Awarded: $52,074

CONSUMER CREDIT COUNSELING SERVICE OF ORANGE COUNTY

1920 Old Tustin Ave

P.O. Box 11330

Santa Ana, CA 92711-1330

Grant Type: Comprehensive

Amount Awarded: $99,163

CONSUMER CREDIT COUNSELING SERVICE OF SOUTHERN NEVADA

2650 S. Jones Blvd

Las Vegas, NV 89146-

Grant Type: Comprehensive

Amount Awarded: $149,949

EDEN COUNCIL FOR HOPE AND OPPORTUNITY/ECHO

770 A St

Hayward, CA 94541-3956

Grant Type: Comprehensive

Amount Awarded: $43,686

FAIR HOUSING COUNCIL OF ORANGE COUNTY

201 S. Broadway

Santa Ana, CA 92701-5633

Grant Type: Comprehensive

Amount Awarded: $52,074

FAMILY HOUSING RESOURCES

1700 East Fort Lowell Road, Suite 101

Tucson, AZ 85719-

Grant Type: Comprehensive

Amount Awarded: $70,000

FREMONT PUBLIC ASSOCIATION

1501 N. 45th St

PO Box 31151

Seattle, WA 98103-

Grant Type: Comprehensive

Amount Awarded: $95,000

HOUSING AUTHORITY OF THE COUNTY OF SANTA CRUZ

2931 Mission St.

Santa Cruz, CA 95060

Grant Type: Comprehensive

Amount Awarded: $35,231

INLAND FAIR HOUSING MEDIATION BOARD

1005 N Begonia Ave

Ontario, CA 91762-

Grant Type: Comprehensive

Amount Awarded: $52,074

KITSAP COUNTY CONSOLIDATED HOUSING AUTHORITY

9307 Bayshore Drive NW

Silverdale, WA 98383-

Grant Type: Comprehensive

Amount Awarded: $60,000

LABOR'S COMMUNITY SERVICE AGENCY

5818 N 7th St Ste 100

Phoenix, AZ 85014-5810

Grant Type: Comprehensive

Amount Awarded: $57,172

LEGAL AID SOCIETY OF HAWAII

924 Bethel Street

P.O. Box 37375

Honolulu, HI 96813-

Grant Type: Comprehensive

Amount Awarded: $42,000

MISSION ECONOMIC DEVELOPMENT ASSOCIATION

3505 20th St

San Francisco, CA 94110

Grant Type: Comprehensive

Amount Awarded: $79,500

NEIGHBORHOOD HOUSE ASSOCIATION

841 S. 41st Street

San Diego, CA 92113

Grant Type: Comprehensive

Amount Awarded: $146,805

OPEN DOOR COUNSELING CENTER

34420 SW Tualatin Valley Hwy

Hillsboro, OR 97123-5470

Grant Type: Comprehensive

Amount Awarded: $63,387

PACIFIC COMMUNITY SERVICES, INCORPORATRED

329 Railroad Ave

Pittsburg, CA 94565-2245

Grant Type: Comprehensive

Amount Awarded: $89,150

PIERCE COUNTY, DEPARTMENT OF COMMUNITY SERVICE

3602 Pacific Ave, Suite 200

Tacoma, WA 98418

Grant Type: Comprehensive

Amount Awarded: $40,000

PROJECT SENTINEL

430 Sherman Avenue

Suite 308

Palo Alto, CA 95306

Grant Type: Comprehensive

Amount Awarded: $15,000

SACRAMENTO NEIGHBORHOOD HOUSING SERVICES, INCORPORATED

3447 Fifth Ave

P.O. Box 5420

Sacramento, CA 95817-

Grant Type: Comprehensive

Amount Awarded: $54,200

SPOKANE NEIGHBORHOOD ACTION PROGRAMS

2116 East First Avenue

Spokane, WA 99202-3937

Grant Type: Comprehensive

Amount Awarded: $126,223

SPRINGBOARD NON PROFIT CONSUMER CREDIT MANAGEMENT

4351 Latham Street

Riverside, CA 92501-

Grant Type: Comprehensive

Amount Awarded: $150,000

UMPQUA COMMUNITY ACTION NETWORK

2448 W Harvard Blvd

Roseburg, OR 97470-

Grant Type: Comprehensive

Amount Awarded: $50,000

WASHOE COUNTY SENIOR LAW PROJECT

1155 E Ninth St

Reno, NV 89512-

Grant Type: Comprehensive

Amount Awarded: $38,000

PREDATORY LENDING (47)

Atlanta (LHCA—PL)

CCCS FORSYTH COUNTY

8064 North Point Boulevard, Suite 204

Winston Salem, NC 27106-

Grant Type: Predatory Lending

Amount Awarded: $25,000

CCCS OF CENTRAL FL AND THE FL GULF COAST, INC.—MAIN OFFICE

3670 Maguire Boulevard, Suite 103

Orlando, FL 32803

Grant Type: Predatory Lending

Amount Awarded: $40,000

CCCS OF WESTERN NORTH CAROLINA

50 S French Broad Ave Ste 227

Asheville, NC 28801-3217

Grant Type: Predatory Lending

Amount Awarded: $15,000

COBB HOUSING, INCORPORATED

268 Lawrence ST, Suite 100

Marietta, GA 30060

Grant Type: Predatory Lending

Amount Awarded: $40,000

ELIZABETH CITY STATE UNIVERSITY

1704 Weeksville Rd.

Elizabeth City, NC 27909-

Grant Type: Predatory Lending

Amount Awarded: $5,850

FAMILY SERVICES INCORPORATED

4925 Lacross St. Ste. 215

North Charleston, SC 29406-

Grant Type: Predatory Lending

Amount Awarded: $3,250

GREENVILLE COUNTY HUMAN RELATIONS COMMISSION

301 University Ridge, Suite 1600

Greenville, SC 29601-3660

Grant Type: Predatory Lending

Amount Awarded: $40,000

GWINNETT HOUSING RESOURCE PARTNERSHIP, INCORPORATED

2825 Breckinridge Blvd. Suite 160

Duluth, GA 30096-

Grant Type: Predatory Lending

Amount Awarded: $30,000

JACKSONVILLE AREA LEGAL AID, INCORPORATED

126 W. Adams Street

Jacksonville, FL 32202-3849

Grant Type: Predatory Lending

Amount Awarded: $39,620

MOMENTIVE CONSUMER CREDIT COUNSELING SERVICE

615 N. Alabama Street

Suite 134

Indianapolis, IN 46204-1477

Grant Type: Predatory Lending

Amount Awarded: $40,000

Atlanta (SHFA—PL)

INDIANA HOUSING FINANCE AUTHORITY

30 South Meridian Street, Ste 1000

Indianapolis, IN 46204

Grant Type: Predatory Lending

Amount Awarded: $54,622

KENTUCKY HOUSING CORPORATION

1231 Louisville Road

Frankfort, KY 40601-

Grant Type: Predatory Lending

Amount Awarded: $50,000

Denver (LHCA—PL)

CDC OF BROWNSVILLE

901 East Levee Street

Brownsville, TX 78520-5804

Grant Type: Predatory Lending

Amount Awarded: $25,000

CITY OF SAN ANTONIO/COMMUNITY ACTION DIVISION

700 So. Zarzamora, Suite 207

P.O. Box 839966

San Antonio, TX 78205-

Grant Type: Predatory Lending

Amount Awarded: $39,176

COMMUNITY ACTION PROJECT OF TULSA COUNTY, INCORPORATED

717 S. Houston, Suite 200

Tulsa, OK 74127

Grant Type: Predatory Lending

Amount Awarded: $25,000

COMMUNITY ACTION SERVICES

815 South Freedom Blv., Suite 100

Provo, UT 84601-

Grant Type: Predatory Lending

Amount Awarded: $7,965

GREATER KANSAS CITY HOUSING INFORMATION CENTER

6285 Paseo Blvd

Kansas City, MO 64110

Grant Type: Predatory Lending

Amount Awarded: $24,383

HOUSING PARTNERS OF TULSA, INCORPORATED

415 E. Independence

P.O. Box 6369

Tulsa, OK 74106-

Grant Type: Predatory Lending

Amount Awarded: $40,000

LEGAL SERVICES OF EASTERN MISSOURI, INCORPORATED

4232 Forest Park Ave

St. Louis, MO 63108-2811

Grant Type: Predatory Lending

Amount Awarded: $40,000

PROJECT BRAVO, INCORPORATED

4838 Montana Ave

El Paso, TX 79903-

Grant Type: Predatory Lending

Amount Awarded: $38,364

SOUTH ARKANSAS COMMUNITY DEVELOPMENT

406 Clay Street

Arkadelphia, AR 71923-

Grant Type: Predatory Lending

Amount Awarded: $4,900

SOUTHERN MINNESOTA REGIONAL LEGAL SERVICES, INCORPORATED

166 E 4th St., Suite 200

St. Paul, MN 55101

Grant Type: Predatory Lending

Amount Awarded: $20,000

Denver (SHFA—PL)

SOUTH DAKOTA HOUSING DEVELOPMENT AUTHORITY

221 South Central

P.O. Box 1237

Pierre, SD 57501-1237

Grant Type: Predatory Lending

Amount Awarded: $12,675

Intermediaries (PL)

ACORN HOUSING CORPORATION

846 N Broad St 2nd floor 2nd Floor

Philadelphia, PA 19130-2234

Grant Type: Predatory Lending

Amount Awarded: $325,000

NATIONAL ASSOCIATION OF REAL ESTATE BROKERS—INVESTMENT DIVISION, INCORPORATED

1301 85th Ave

Oakland, CA 94621-1605

Grant Type: Predatory Lending

Amount Awarded: $325,000

NATIONAL COUNCIL OF LA RAZA

1111 19th Street NW Ste 1000

Washington, DC 20036-

Grant Type: Predatory Lending

Amount Awarded: $292,500

NEIGHBORHOOD REINVESTMENT CORPORATION

1325 G St NW

Suite 800

Washington, DC 20005-3104

Grant Type: Predatory Lending

Amount Awarded: $275,000

THE HOUSING PARTNERSHIP NETWORK

160 State Street, 5th Fl

Boston, MA 02109-

Grant Type: Predatory Lending

Amount Awarded: $70,526

Philadelphia (LHCA—PL)

BETTER HOUSING LEAGUE OF GREATER CINCINNATI

7162 Reading Road, Ste. 608

Cincinnati, OH 45237

Grant Type: Predatory Lending

Amount Awarded: $40,000

HOME REPAIR SERVICES OF KENT COUNTY, INCORPORATED

1100 S. Division Avenue

Grand Rapids, MI 49507-

Grant Type: Predatory Lending

Amount Awarded: $10,000

HOUSING COUNCIL OF YORK

35 South Duke Street

York, PA 17401-1106

Grant Type: Predatory Lending

Amount Awarded: $40,000

HOUSING COUNSELING SERVICES, INCORPORATED

2430 Ontario Rd NW

Washington, DC 20009-2705

Grant Type: Predatory Lending

Amount Awarded: $40,000

HOUSING OPPORTUNITIES MADE EQUAL, INCORPORATED

700 East Franklin Street, Suite 3A

Richmond, VA 23219

Grant Type: Predatory Lending

Amount Awarded: $40,000

INNER CITY CHRISTIAN FEDERATION

515 Jefferson, SE

Grand Rapids, MI 49503-

Grant Type: Predatory Lending

Amount Awarded: $30,750

LUTHERAN HOUSING CORPORATION

13944 Euclid Ave Ste 208

East Cleveland, OH 44112-3832

Grant Type: Predatory Lending

Amount Awarded: $10,193

NEW JERSEY CITIZEN ACTION

400 Main Street

Hackensack, NJ 07601-5903

Grant Type: Predatory Lending

Amount Awarded: $29,687

SOUTHERN MARYLAND TRI-COUNTY COMMUNITY ACTION

8383 Leonardtown Rd.

P.O. Box 280

Hughesville, MD 20637-

Grant Type: Predatory Lending

Amount Awarded: $10,000

YWCA OF NEW CASTLE COUNTY

233 King St

Wilmington, DE 19801-2521

Grant Type: Predatory Lending

Amount Awarded: $5,000

Philadelphia (SHFA—PL)

RHODE ISLAND HOUSING AND MORTGAGE FINANCE CORPORATION

44 Washington St

Providence, RI 02903-1721

Grant Type: Predatory Lending

Amount Awarded: $56,765

CONSUMER CREDIT COUNSELING SERVICE OF ALASKA

208 E 4th Ave

Anchorage, AK 99501-2508

Grant Type: Predatory Lending

Amount Awarded: $25,300

CONSUMER CREDIT COUNSELING SERVICE OF KERN AND TULARE COUNTIES

5300 Lennox Ave Ste 200

Bakersfield, CA 93309-1662

Grant Type: Predatory Lending

Amount Awarded: $40,000

CONSUMER CREDIT COUNSELING SERVICE OF SOUTHERN NEVADA

2650 S. Jones Blvd

Las Vegas, NV 89146-

Grant Type: Predatory Lending

Amount Awarded: $39,973

FAMILY HOUSING RESOURCES

1700 East Fort Lowell Road, Suite 101

Tucson, AZ 85719-

Grant Type: Predatory Lending

Amount Awarded: $11,000

FREMONT PUBLIC ASSOCIATION

1501 N. 45th St

P.O. Box 31151

Seattle, WA 98103-

Grant Type: Predatory Lending

Amount Awarded: $40,000

LEGAL AID SOCIETY OF HAWAII

924 Bethel Street

P.O. Box 37375

Honolulu, HI 96813-

Grant Type: Predatory Lending

Amount Awarded: $17,490

NEIGHBORHOOD HOUSE ASSOCIATION

841 S. 41st Street

San Diego, CA 92113

Grant Type: Predatory Lending

Amount Awarded: $38,921

Santa Ana (SHFA—PL)

WASHINGTON STATE HOUSING FINANCE COMMISSION

1000 2nd Avenue

Suite 2700

Seattle, WA 98104-1046

Grant Type: Predatory Lending

Amount Awarded: $63,000

Homeownership Voucher (39)

Atlanta (LHCA—S8)

CCCS FORSYTH COUNTY

8064 North Point Boulevard, Suite 204

Winston Salem, NC 27106-

Grant Type: Homeownership Voucher

Amount Awarded: $10,000

COBB HOUSING, INCORPORATED

268 Lawrence St, Suite 100

Marietta, GA 30060

Grant Type: Homeownership Voucher

Amount Awarded: $30,000

DU PAGE HOMEOWNERSHIP CENTER

1333 N Main St

Wheaton, IL 60187-3579

Grant Type: Homeownership Voucher

Amount Awarded: $15,000

HOUSING AUTHORITY OF THE CITY OF FORT WAYNE, INDIANA

2013 S. Anthony Blvd.

Fort Wayne, IN 46803

Grant Type: Homeownership Voucher

Amount Awarded: $17,937

LATIN UNITED COMMUNTIY HOUSING ASSOCIATION

3541 West North Avenue

Chicago, IL 60647-

Grant Type: Homeownership Voucher

Amount Awarded: $30,000

MOBILE HOUSING BOARD

151 S. Claiborne Street

Mobile, AL 36602

Grant Type: Homeownership Voucher

Amount Awarded: $30,000

NORTHWESTERN REGIONAL HOUSING AUTHORITY

869 Highway 105 Ext Ste 10

P.O. Box 2510

Boone, NC 28607-2510

Grant Type: Homeownership Voucher

Amount Awarded: $14,000

SANDHILLS COMMUNITY ACTION PROGRAM, INCORPORATED

103 Saunders St

P.O. Box 937

Carthage, NC 28327-0937

Grant Type: Homeownership Voucher

Amount Awarded: $30,000

TWIN RIVERS OPPORTUNITIES, INCORPORATED

318 Craven St.

P.O. Box 1482

New Bern, NC 28563-

Grant Type: Homeownership Voucher

Amount Awarded: $24,386

URBAN LEAGUE OF LOUISVILLE, INCORPORATED

1535 West Broadway

Louisville, KY 40203

Grant Type: Homeownership Voucher

Amount Awarded: $30,000

Atlanta (SHFA—S8)

GEORGIA HOUSING AND FINANCE AUTHORITY

60 Executive Park South, NE

Atlanta, GA 30329-2231

Grant Type: Homeownership Voucher

Amount Awarded: $14,400

MISSISSIPPI HOME CORPORATION

735 Riverside Drive

P.O. Box 23369

Jackson, MS 39225-3369

Grant Type: Homeownership Voucher

Amount Awarded: $22,500

Denver (LHCA—S8)

CDC OF BROWNSVILLE

901 East Levee Street

Brownsville, TX 78520-5804

Grant Type: Homeownership Voucher

Amount Awarded: $30,000

COMMUNITY ACTION PROJECT OF TULSA COUNTY, INCORPORATED

717 S. Houston, Suite 200

Tulsa, OK 74127

Grant Type: Homeownership Voucher

Amount Awarded: $18,000

HOME-NEW MEXICO, INCORPORATED

3900 Osuna NE

Albuquerque, NM 87109-

Grant Type: Homeownership Voucher

Amount Awarded: $4,700

HOUSING SOLUTIONS FOR THE SOUTHWEST

295 Girard St

Durango, CO 81303-

Grant Type: Homeownership Voucher

Amount Awarded: $5,000

Denver (SHFA—S8)

MONTANA BOARD OF HOUSING

Box 200528

Helena, MT 59620

Grant Type: Homeownership Voucher

Amount Awarded: $5,421

Intermediaries (S8)

ACORN HOUSING CORPORATION

846 N Broad St 2nd floor

2nd Floor

Philadelphia, PA 19130-2234

Grant Type: Homeownership Voucher

Amount Awarded: $275,000

MISSION OF PEACE

Windmill Place, 877 East Fifth Ave.

Flint, MI 48503-

Grant Type: Homeownership Voucher

Amount Awarded: $96,338

NATIONAL COUNCIL OF LA RAZA

1111 19th Street NW Ste 1000

Washington, DC 20036-

Grant Type: Homeownership Voucher

Amount Awarded: $275,000

NEIGHBORHOOD REINVESTMENT CORPORATION

1325 G St NW

Suite 800

Washington, DC 20005-3104

Grant Type: Homeownership Voucher

Amount Awarded: $275,000

THE HOUSING PARTNERSHIP NETWORK

160 State Street, 5th Fl

Boston, MA 02109-

Grant Type: Homeownership Voucher

Amount Awarded: $78,662

Philadelphia (LHCA—S8)

BELMONT SHELTER CORPORATION

1195 Main Street

Buffalo, NY 14209-2196

Grant Type: Homeownership Voucher

Amount Awarded: $30,000

HOUSING COUNCIL OF YORK

35 South Duke Street

York, PA 17401-1106

Grant Type: Homeownership Voucher

Amount Awarded: $20,000

INNER CITY CHRISTIAN FEDERATION

515 Jefferson, SE

Grand Rapids, MI 49503-

Grant Type: Homeownership Voucher

Amount Awarded: $30,000

MONMOUTH COUNTY BOARD OF CHOSEN FREEHOLDERS/MONMOUTH COUNTY DIVISION OF SOCIAL SERVICES

P.O. Box 3000

Freehold, NJ 07728-

Grant Type: Homeownership Voucher

Amount Awarded: $4,611

NEW JERSEY CITIZEN ACTION

400 Main Street

Hackensack, NJ 07601-5903

Grant Type: Homeownership Voucher

Amount Awarded: $30,000

PHILADELPHIA COUNCIL FOR COMMUNITY ADVANCEMENT

100 North 17th Street—Suite 700

Philadelphia, PA 19103-2736

Grant Type: Homeownership Voucher

Amount Awarded: $30,000

PLYMOUTH REDEVELOPMENT AUTHORITY

11 Lincoln Street

Plymouth, MA 02360-

Grant Type: Homeownership Voucher

Amount Awarded: $5,000

RURAL ULSTER PRESERVATION COMPANY

289 Fair St

Kingston, NY 12401-

Grant Type: Homeownership Voucher

Amount Awarded: $19,130

SOUTHERN MARYLAND TRI-COUNTY COMMUNITY ACTION

8383 Leonardtown Rd.

P.O. Box 280

Hughesville, MD 20637-

Grant Type: Homeownership Voucher

Amount Awarded: $20,000

YWCA OF NEW CASTLE COUNTY

233 King St

Wilmington, DE 19801-2521

Grant Type: Homeownership Voucher

Amount Awarded: $5,000

Philadelphia (SHFA—S8)

MICHIGAN STATE HOUSING DEVELOPMENT AUTHORITY

735 E. Michigan Avenue

P.O. Box 30044

Lansing, MI 48909-

Grant Type: Homeownership Voucher

Amount Awarded: $21,286

NEW JERSEY HOUSING AND MORTGAGE FINANCE AGENCY

637 South Clinton Avenue

Trenton, NJ 08650-

Grant Type: Homeownership Voucher

Amount Awarded: $21,287

Santa Ana (LHCA—S8)

CONSUMER CREDIT COUNSELING SERVICE OF KERN AND TULARE COUNTIES

5300 Lennox Ave Ste 200

Bakersfield, CA 93309-1662

Grant Type: Homeownership Voucher

Amount Awarded: $30,000

FAMILY HOUSING RESOURCES

1700 East Fort Lowell Road, Suite 101

Tucson, AZ 85719-

Grant Type: Homeownership Voucher

Amount Awarded: $5,000

HOUSING AUTHORITY OF THE COUNTY OF SANTA CRUZ

2931 Mission St.

Santa Cruz, CA 95060

Grant Type: Homeownership Voucher

Amount Awarded: $4,836

LEGAL AID SOCIETY OF HAWAII

924 Bethel Street

P.O. Box 37375

Honolulu, HI 96813-

Grant Type: Homeownership Voucher

Amount Awarded: $21,969

Santa Ana (SHFA—S8)

WASHINGTON STATE HOUSING FINANCE COMMISSION

1000 2nd Avenue

Suite 2700

Seattle, WA 98104-1046

Grant Type: Homeownership Voucher

Amount Awarded: $45,000

Intermediary (Colonias)

WEST TENNESSEE LEGAL SERVICES, INCORPORATED

210 West Street

P.O. Box 2066

Jackson, TN 38302-2066

Grant Type: Colonias

Amount Awarded: $200,000

Denver (LHCA—Colonias)

COMMUNITY DEVELOPMENT CORP. OF BROWNSVILLE

901 East Levee Street

Brownsville, TX 78520-5804

Grant Type: Colonias

Amount Awarded: $30,000

PROJECT BRAVO, INCORPORATED

4838 Montana Ave

El Paso, TX 79903

Grant Type: Colonias

Amount Awarded: $28,809

[FR Doc. E5-2060 Filed 4-29-05; 8:45 am]

BILLING CODE 4210-27-P